DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on April 27, 2001. The March 5, 2001, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2001. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

BON Basis of Negotiation

BCP Boulder Canyon Project

Reclamation Bureau of Reclamation

CAP Central Arizona Project

CUP Central Utah Project

CVP Central Valley Project

CRSP Colorado River Storage Project

D&MC Drainage and Minor Construction

FR Federal Register

IDD Irrigation and Drainage District

ID Irrigation District

M&I Municipal and Industrial

NEPA National Environmental Policy Act

O&M—Operation and Maintenance

P-SMBP—Pick-Sloan Missouri Basin Program

PPR—Present Perfected Right

RRA—Reclamation Reform Act

R&B—Rehabilitation and Betterment

SOD—Safety of Dams

SRPA—Small Reclamation Projects Act

WCUA—Water Conservation and Utilization Act

WD—Water District

Pacific Northwest Region: Bureau of Reclamation, 1150 North Curtis Road, Suite 100, Boise, Idaho 83706-1234, telephone 208-378-5223.

New contract actions:

21. Wenatchee Heights Reclamation District, Washington: Deferment contract for the deferment of the District's annual installments due in 2001 and 2002 under a Drought Act loan contract.

22. Individual irrigation water users, Rogue River Basin Project, Oregon: Water service contract to provide 1,029 acre-feet of stored water from Lost Creek Reservoir (a Corps of Engineers project) for the purpose of irrigation.

Completed contracts actions:

9. North Unit ID, Deschutes Project, Oregon: Repayment contract for reimbursable cost of dam safety repairs to Wickiup Dam under the SOD program. Contract executed on April 4, 2001.

15. Ochoco ID, Crooked River Project, Oregon: Contract for the deferment the District's annual installment due December 31, 2000 and 2001, under the Ochoco Dam, SOD repayment contract. Contract executed on April 12, 2001.

Mid-Pacific Region: Bureau of Reclamation, 2800 Cottage Way, Sacramento, California 95825-1898, telephone 916-978-5250.

New contract action:

49. Contra Costa WD, CVP, California: Amend water service contract No. I75r 3401A to extend the date for renegotiation of the provisions of contract Article 12, “Water Shortage and Apportionment.”

Discontinued contract actions:

16. Madera and Lindsay-Strathmore IDs, and Delta Lands Reclamation District No. 770, CVP, California: Execution of 2- to 3-year Warren Act contracts for conveyance of non-Project water in the Friant-Kern and/or Madera Canals when excess capacity exists.

18. Centerville Community Services District, CVP, California: A long-term supplemental repayment contract for reimbursement to the United States for conveyance costs associated with CVP water conveyed to Centerville.

24. City of Folsom, CVP, California: Contract to amend their water rights settlement contract's point of diversion.

Completed contract action:

40. Clear Creek Community Services District, CVP, California: Contract to transfer title of distribution system to the District. Contract was executed May 29, 2001.

Lower Colorado Region: Bureau of Reclamation, PO Box 61470 (Nevada Highway and Park Street), Boulder City, Nevada 89006-1470, telephone 702-293-8536.

New contract actions:

62. Robson Communities, Southern Arizona Water Rights Settlement Act, Arizona: United States contract with Robson Communities for the sale of 1,618 acre-feet of long-term water storage credits accrued in Tucson during calendar year 2000.

63. Cites of Chandler and Mesa, CAP, Arizona: Amendments to the CAP M&I water service subcontracts of the cities of Chandler and Mesa to remove the language stating that direct effluent exchange agreements with Indian Communities are subject to the “pooling concept.”

Completed contract actions:

33. ASARCO Inc., CAP, Arizona: Amendment to extend deadline for giving notice of termination on exchange subcontract to December 31, 2001.

34. BHP Copper, Inc., CAP, Arizona: Amendment to extend deadline for giving notice of termination on exchange subcontract to December 31, 2001.

35. Cyprus Miami Mining Corporation, CAP, Arizona: Amendment to extend deadline for giving notice of termination on exchange subcontract to December 31, 2001.

Upper Colorado Region: Bureau of Reclamation, 125 South State Street, Room 6107, Salt Lake City, Utah 84138-1147, telephone 801-524-3691.

The Upper Colorado Region has no updates to report for this quarter. Please refer to the March 5 and April 27, 2001, publications of this notice for current contract actions.

Great Plains Region: Bureau of Reclamation, PO Box 36900, Federal Building, 316 North 26th Street, Billings, Montana 59107-6900, telephone 406-247-7730. New contract actions:

44. Clark Canyon Water Supply Company, East Bench Unit, Montana: Initiating renewal of contract No. 14-06-600-3592 which expires December 31, 2005.

45. East Bench ID, East Bench Unit, Montana: Initiating renewal of contract No. 14-06-600-3593 which expires December 31, 2005.

46. Pueblo Board of Water Works, Fryingpan-Arkansas Project, Colorado: Water conveyance contract expires in October of 2002. Initiating negotiation for renewal of a water conveyance contract for annual conveyance of up to 750 acre-feet of non-project water through the Nast and Boustead Tunnel System.

47. City of Dickinson, P-SMBP, North Dakota: In accordance with Public Law 106-566, a BON has been prepared to amend contract No. 9-07-60-W0384 which will allow the City to pay a lump-sum payment in lieu of its remaining repayment obligation for construction costs associated with the bascule gate. Modified contract actions:

5. City of Rapid City, Rapid Valley Unit, P-SMBP, South Dakota: Contract renewal for storage capacity in Pactola Reservoir. A temporary (1 year not to exceed 10,000 AF) water service contract will be executed with the City of Rapid City, Rapid Valley Unit, for use of water from Pactola Reservoir. A long-term storage contract is being negotiated for water stored in Pactola Reservoir.

34. Glendo Unit, P-SMBP, Wyoming: Contract renewal for long-term water service contracts with Burbank Ditch, New Grattan Ditch Company, Torrington ID, Lucerne Canal and Power Company, and Wright and Murphy Ditch Company.

35. Glendo Unit, P-SMBP, Nebraska: Contract renewal for long-term water service contracts with Bridgeport, Enterprise, and Mitchell IDs, and Central Nebraska Public Power and ID.

37. Belle Fourche ID, Belle Fourche Project, South Dakota: Belle Fourche ID has requested a $25,000 reduction in construction repayment. Negotiations are pending resolution of contract language.

40. Louis F. Polk, Jr. (Individual), Shoshone Project, Buffalo Bill Dam, Wyoming: Renewal of exchange water service contract not to exceed 500 acre-feet of water to service 249 acres. Completed contract actions:

7. Northern Cheyenne Indian Reservation, Yellowtail Unit, Lower Bighorn Division, P-SMBP, Montana: The Northern Cheyenne Reserved Water Rights Settlement Act of 1992 allocates to the Tribe, 30,000 acre-feet of water per year stored at Bighorn Reservoir, Montana. In accordance with section 9 of the Act, Reclamation and the Tribe must negotiate an agreement for the water. The Tribe is to pay the United States both capital and O&M costs for water the Tribe uses or sells from this storage for M&I purposes. Reclamation and the Tribe are continuing to negotiate the terms of the Agreement. The agreement has been sent to the Tribe for signature. A date for execution has not been scheduled. Storage agreement was signed June 12, 2001, at the Tribal Headquarters in Lame Deer, Montana.

17. Nueces River Project, Texas: Recalculate existing contract repayment schedule to conform with the provisions of the Emergency Drought Relief Act of 1996. The revised schedule is to reflect a 5-year deferment of payments. Received approval of the BON from the Commissioner and a public notice has been printed in the Corpus Christi Caller-Times. Contract amendment for deferment and extension of repayment obligation has been executed.

25. Green Mountain Project, Colorado: Historic user pool surplus water for municipal recreation. This agreement is with the City of Grand Junction, City of Fruita, and the Town of Palisade. Contract has been executed.

32. Virginia L. and Earl K. Sauerwein (Individual), Shoshone Project, Buffalo Bill Dam, Wyoming: Exchange water service contract not to exceed 100 acre-feet of water to service 126 acres. Contract has been executed.

36. Tom Green County and Improvement District No. 1, San Angelo Project, Texas: The District has requested a deferment of its 2001 construction payment. Received approval of the BON and delegation of authority to execute an amendment for deferment of the 2001 construction charge installment from the Commissioner. A public notice has been printed in the San Angelo Times. Contract amendment for deferment of the 2001 repayment obligation has been executed.

Dated: July 31, 2001.
Elizabeth Cordova-Harrison,
Deputy Director, Office of Policy.

[FR Doc. 01-19556 Filed 8-3-01; 8:45 am]

BILLING CODE 4310-MN-P